DEPARTMENT OF THE INTERIOR

National Park Service

Notice of Inventory Completion for Native American Human Remains and Associated Funerary Objects in the Control of the U.S. Department of the Interior, Bureau of Land Management, New Mexico State Office, Santa Fe, NM

AGENCY: National Park Service, Interior.

ACTION: Notice.

Notice is hereby given in accordance with provisions of the Native American Graves Protection and Repatriation Act (NAGPRA), 43 CFR 10.9, of the completion of an inventory of human remains and associated funerary objects in the control of the U.S. Department of Interior, Bureau of Land Management, New Mexico State Office, Santa Fe, NM.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by the University of Colorado Museum, Eastern New Mexico University, Maxwell Museum of Anthropology (University of New Mexico), New Mexico State University Museum, Museum of New Mexico, San Juan County Museum, and Bureau of Land Management professional staffs in consultation with representatives of the Hopi Tribe of Arizona; Navajo Nation, Arizona, New Mexico & Utah; Pueblo of Acoma, New Mexico; Pueblo of Jemez, New Mexico; Pueblo of Isleta, New Mexico; Pueblo of San Ildefonso, New Mexico; Pueblo of Zia, New Mexico; and Zuni Tribe of the Zuni Reservation, New Mexico.

In 1981, human remains representing 10 individuals were recovered from site LA 31848 in New Mexico during legally authorized excavations and collections conducted by the Archeological Field School of Simon Fraser University. These human remains presently are curated by the Museum of New Mexico. No known individuals were identified. The one associated funerary object is a bone awl.

Based on material culture, architecture, and site organization, site LA 31848 has been identified as an Anasazi pueblo occupied between C.E. 1100-1300.

Continuities of ethnographic materials, technology, and architecture indicate affiliation of Anasazi sites in this area of New Mexico with historic and present-day Puebloan cultures. Oral traditions presented by representatives of the Pueblo of Acoma support cultural affiliation with Anasazi sites in this area of New Mexico.

Based on the above-mentioned information, Bureau of Land Management, New Mexico State Office officials have determined that, pursuant to 43 CFR 10.2 (d)(1), the human remains listed above represent the physical remains of 10 individuals of Native American ancestry. Bureau of Land Management, New Mexico State Office officials also have determined that, pursuant to 43 CFR 10.2 (d)(2), the one object listed above is reasonably believed to have been placed with or near individual human remains at the time of death or later as part of the death rite or ceremony. Lastly, Bureau of Land Management, New Mexico State Office officials have determined that, pursuant to 43 CFR 10.2 (e), there is a relationship of shared group identity which can be reasonably traced between these Native American human remains and associated funerary object and the Pueblo of Acoma, New Mexico.

This notice has been sent to officials of the Hopi Tribe of Arizona; Navajo Nation, Arizona, New Mexico & Utah; Pueblo of Acoma, New Mexico; Pueblo of Jemez, New Mexico; Pueblo of Isleta, New Mexico; Pueblo of San Ildefonso, New Mexico; Pueblo of Zia, New Mexico; and Zuni Tribe of the Zuni Reservation, New Mexico. Representatives of any other Indian tribe that believes itself to be culturally affiliated with these human remains and associated funerary object should contact Stephen L. Fosberg, State Archeologist and NAGPRA Coordinator, New Mexico State Office, Bureau of Land Management, 1474 Rodeo Road, Santa Fe, NM 87502-0115, telephone (505) 438-7415, before December 5, 2001. Repatriation of the human remains and associated funerary object to the Pueblo of Acoma, New Mexico may begin after that date if no additional claimants come forward.

Dated: October 3, 2001.
John Robbins,
Assistant Director, Cultural Resources Stewardship and Partnerships.

[FR Doc. 01-27706 Filed 11-2-01; 8:45 am]

BILLING CODE 4310-70-S